DEPARTMENT OF COMMERCE

International Trade Administration

[A-523-808]

Certain Steel Nails From the Sultanate of Oman: Final Results of Antidumping Duty Administrative Review; 2016-2017

AGENCY: Enforcement and Compliance, International Trade Administration, Department of Commerce.

SUMMARY: The Department of Commerce (Commerce) determines that, during the period of review (POR) July 1, 2016, through June 30, 2017, Oman Fasteners LLC (Oman Fasteners) is not selling nails at less than normal value but that the collapsed entity of Overseas International Steel Industry LLC (OISI) and Overseas Distribution Services Inc. (ODS) is.

DATES: Applicable November 19, 2018.

FOR FURTHER INFORMATION CONTACT: Thomas Martin, AD/CVD Operations, Office IV, Enforcement and Compliance, International Trade Administration, U.S. Department of Commerce, 1401 Constitution Avenue NW, Washington, DC 20230; telephone: (202) 482-3936, respectively.

SUPPLEMENTARY INFORMATION:

Background

On May 14, 2018, Commerce published the Preliminary Results of the 2016-2017 antidumping duty administrative review of certain steel nails from the Sultanate of Oman.¹ In accordance with 19 CFR 351.309(c)(1)(ii), we invited parties to comment on our Preliminary Results. On June 13, 2018, Mid Continent Steel & Wire, Inc. (the petitioner) and Oman Fasteners submitted case briefs.² In its case brief, the petitioner timely requested a hearing but withdrew its request on September 7, 2018.³ On June 20, 2018, the petitioner and Oman Fasteners submitted their rebuttal briefs.⁴

¹ See Certain Steel Nails from the Sultanate of Oman: Preliminary Results of Antidumping Duty Administrative Review and Partial Rescission of Antidumping Duty Administrative Review; 2016-2017, 83 FR 22246 (May 14, 2018) and accompanying Preliminary Decision Memorandum (Preliminary Results).

² See the petitioner's case brief, dated June 13, 2018, Oman Fasteners' case brief, dated June 13, 2018.

³ See Letter from the petitioner, “Certain Steel Nails from Oman: Withdrawal of Request for Hearing,” dated September 7, 2018.

⁴ See the petitioner's rebuttal brief, dated June 20, 2018, and Oman Fasteners' rebuttal brief, dated June 20, 2018.

Scope of the Order

The merchandise covered by this order is nails having a nominal shaft length not exceeding 12 inches.⁵ Merchandise covered by the order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this order also may be classified under HTSUS subheadings 7907.00.60.00, 8206.00.00.00 or other HTSUS subheadings. While the HTSUS subheadings are provided for convenience and customs purposes, the written description of the scope of this order is dispositive. For a complete description of the scope of the order, see the IDM.⁶

⁵ The shaft length of certain steel nails with flat heads or parallel shoulders under the head shall be measured from under the head or shoulder to the tip of the point. The shaft length of all other certain steel nails shall be measured overall.

⁶ See Memorandum, “Decision Memorandum for Final Results of the 2016-2017 Antidumping Duty Administrative Review of Certain Steel Nails from the Sultanate of Oman,” dated concurrently with, and hereby adopted by this notice (IDM).

Analysis of Comments Received

All issues raised in the case and rebuttal briefs by parties to this administrative review are addressed in the IDM. A list of the issues that parties raised and to which we responded is attached to this notice as an Appendix. The IDM is a public document and is on-file electronically via Enforcement and Compliance's Antidumping and Countervailing Duty Centralized Electronic Service System (ACCESS). ACCESS is available to registered users at https://access.trade.gov and in the Central Records Unit (CRU), room B8024 of the main Department of Commerce building. In addition, a complete version of the IDM can be accessed directly on the internet at http://enforcement.trade.gov/frn/index.html. The signed IDM and the electronic versions of the IDM are identical in content.

Changes Since the Preliminary Results

Based on a review of the record and comments received from interested parties regarding our Preliminary Results, we have recalculated Oman Fasteners' weighted-average dumping margin.⁷ The AFA dumping margin for the collapsed entity (i.e., OISI and ODS) remains unchanged from the Preliminary Results.⁸

⁷ See IDM; see also Memorandum, “Certain Nails from Oman: Calculation Memorandum for the Final Results of the 2016-2017 Administrative Review—Oman Fasteners,” dated concurrently with this notice.

⁸ Commerce determined that OISI and ODS should be a collapsed entity in the previous administrative review. See Certain Steel Nails from the Sultanate of Oman: Final Results of Antidumping Duty Administrative Review; 2014-2016, 83 FR 4030 (January 29, 2018).

Final Results of the Review

As a result of this review, we determine that, for the period July 1, 2016, through June 30, 2017, the following dumping margins exist:

Producer and/or exporter | Weighted- average dumping margin (percent)
Oman Fasteners LLC | 0.00
Overseas International Steel Industry LLC/Overseas Distribution Services Inc | 154.33

Duty Assessment

Commerce shall determine and Customs and Border Protection (CBP) shall assess antidumping duties on all appropriate entries.⁹ For Oman Fasteners, because its weighted-average dumping margin is zero or de minimis (i.e., less than 0.5 percent), Commerce has not calculated importer-specific antidumping duty assessment rates. Pursuant to 19 CFR 351.106(c)(2), we will instruct CBP to liquidate without regard to antidumping duties any entries for which the importer-specific assessment rate is zero or de minimis. Because we calculated a zero margin for Oman Fasteners in the final results of this review, we intend to instruct CBP to liquidate the appropriate entries without regard to antidumping duties. For entries of the subject merchandise from OISI and ODS, we will instruct CBP to assess antidumping duties at the AFA rate of 154.33 percent.

⁹ In these final results, Commerce applied the assessment rate calculation method adopted in Antidumping Proceedings: Calculation of the Weighted-Average Dumping Margin and Assessment Rate in Certain Antidumping Proceedings: Final Modification, 77 FR 8101 (February 14, 2012).

In accordance with Commerce's “automatic assessment” practice, for entries of subject merchandise during the POR produced by each respondent for which it did not know that its merchandise was destined for the United States, we will instruct CBP to liquidate unreviewed entries at the all-others rate if there is no rate for the intermediate company(ies) involved in the transaction. We intend to issue assessment instructions directly to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Tariff Act of 1930, as amended (the Act): (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 9.10 percent, the all-others rate established in the antidumping investigation. These cash deposit requirements, when imposed, shall remain in effect until further notice.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.221(b)(5).

Dated: November 9, 2018.
Christian Marsh,
Deputy Assistant Secretary for Enforcement and Compliance.

Appendix

List of Topics Discussed in the Final IDM

I. Summary

II. List of Issues

III. Background

IV. Scope of the Order

V. Discussion of the Issues

Comment 1: Whether Astrotech's financial statement is a better source than Amatei for calculating CV profit and indirect selling expenses

Comment 2: Whether Commerce made certain errors in its calculation of CV profit and indirect selling expenses

Comment 3: Whether Oman Fasteners is affiliated with a U.S. customer via a close supplier relationship

Comment 4: Whether Oman Fastener's U.S. sales are CEP sales because the terms of sale were agreed to or established by the Atlanta office

Comment 5: Whether Commerce should impute interest for a related party loan

Comment 6: Whether Commerce should base CV Profit on Omani rates or capped if based on third-country sources

Comment 7: Whether Commerce's differential pricing methodology is unlawful

VI. Recommendation

[FR Doc. 2018-25145 Filed 11-16-18; 8:45 am]

BILLING CODE 3510-DS-P